DEPARTMENT OF TRANSPORTATION

Office of the Secretary

Transportation Labor-Management Board; Establishment and Notice of Meeting

AGENCY: Department of Transportation, Office of the Secretary.

ACTION: Notice of Federal Advisory Committee Establishment and notice of meeting.

SUMMARY: Following consultation with the General Services Administration, the U.S. Department of Transportation (DOT) announces the establishment of the Transportation Labor-Management Board (Board) and the Board's first meeting. Notice of the establishment of the Board and the meeting is required under the Federal Advisory Committee Act.

Time and Place: The Board will meet on Tuesday, October 22, 2002, at 9 a.m., at the U.S. Department of Transportation, Nassif Building, room 4438/40, 400 Seventh Street, SW., Washington, DC 20590. The room is located on the 4th floor.

Type of Meeting: The meeting is open to the public. Please note that visitors without a government identification badge should enter the Nassif Building at the Southwest lobby, for clearance at the Visitor's Desk. Seating will be available on a first-come, first-served basis. Handicapped individuals wishing to attend should contact DOT to obtain appropriate accommodations.

Point of Contact: Stephen Gomez, U.S. Department of Transportation, Office of the Secretary, Corporate Human Resource Policy Division, M-13, Nassif Building, 400 Seventh Street, SW., room 7411, Washington, DC 20590, (202) 366-9455.

SUPPLEMENTARY INFORMATION: The purpose of the Transportation Labor-Management Board is to foster a cooperative and constructive working relationship between employees, labor representatives, and managers within DOT by providing a forum for discussions between management and the unions on significant departmental issues. The Board will serve as an advisory committee providing information, advice and recommendations on cross-cutting departmental issues to DOT through the Assistant Secretary for Administration, and shall exist for two years from the date of the Charter. The Board will be comprised of seven management representatives and seven union representatives, appointed by the DOT's operating administrations and unions. The Secretary of Transportation or his/her designee will appoint a Chairperson from among the Board's membership.

The purpose of the October 22nd meeting is to establish a collaborative working relationship between Board members, determine the Board's operating principles, and address approaches for achieving the objectives identified in the Board's Charter.

Public Participation

We invite interested persons and organizations to submit comments. Mail or deliver your comments or recommendations to Stephen Gomez at the address shown above. Comments should be received by October 18, 2002 in order to be considered at the October 22nd meeting.

Issued in Washington, DC, on September 30, 2002.
For the U.S. Department of Transportation.
Linda Moody,
Associate Director, Human Resource Leadership Division.

[FR Doc. 02-25411 Filed 10-4-02; 8:45 am]

BILLING CODE 4910-62-P